OFFICE OF THE UNITED STATES TRADE REPRESENTATIVE

Public Dialogue on Enhancing the Transatlantic Economic Relationship

AGENCY: Office of the U.S. Trade Representative.

ACTION: Notice and request for comments.

SUMMARY: U.S. and European leadership agreed at the U.S.-EU Summit in June 2004 to look at new ways to further strengthen the transatlantic economic relationship, calling upon all interested U.S. and EU stakeholders to engage in a vigorous discussion of concrete ideas on how to further transatlantic economic integration. Over the coming months, the U.S. Administration will convene a number of public dialogue sessions, as well as participate in conferences and meetings, with the business, consumer, labor, environmental and academic communities, and other elements of civil society in order to stimulate proposals for possible subsequent adoption by governments. As part of this process, the U.S. Administration welcomes written public input on ideas for deepening transatlantic economic ties.

DATES: Written comments should be submitted no later than November 15, 2004.

Submissions: The U.S. government strongly encourages public input on this initiative. To facilitate expeditious handling, the public is strongly encouraged to submit documents electronically rather than by facsimile. For any document containing business confidential information submitted electronically, the file name of the business confidential version should begin with the characters “BC-”, and the file name of the public version should begin with the characters “P-”. The “P-” or “BC-” should be followed by the name of the submitter. Submissions by e-mail should not include separate cover letters; information that might appear in a cover letter should be included in the submission itself. To the extent possible, any attachments to the submission should be included in the same file as the submission itself, and not as separate files. Electronic submissions should be sent to FR0439@ustr.eop.gov. Submissions by fax should be sent to the attention of Anita Thomas, Office of Europe and the Mediterranean, Office of the U.S. Trade Representative, at (202) 395-3974.

Public Dialogues: Public dialogue sessions will be organized in several U.S. cities later this year, with locations and dates to be posted at the following Web site http://www.ustr.gov/World_Regions/Europe_Mediterranean/Transatlantic_Dialogue/Section Index.html. For information on those sessions, the public is advised to follow links to “Transatlantic Stakeholders” on the Web sites of the USTR and the Departments of State and Commerce.

FOR FURTHER INFORMATION CONTACT: Questions relating to this notice should be addressed to Lisa Errion, Director for Central and Southeast Europe, Office of the U.S. Trade Representative, at (202) 395-3320.

SUPPLEMENTARY INFORMATION: Over the last 50 years, the economies of the United States and the European Union (EU) have become increasingly integrated. Today, the United States and EU share the largest bilateral trade and investment relationship in the world, providing jobs to millions of workers on each side of the Atlantic. Trade and investment remain at the core of the U.S.-EU relationship.

The United States and the European Union are each other's largest sources of foreign direct investment, with the 2002 stock of U.S. direct investment in the European Union reaching $700 billion and EU investment in the United States reaching $850 billion. In 2003, two-way transatlantic trade exceeded $390 billion. The total output of U.S. foreign affiliates ($333 billion in 2000) in Europe and of EU affiliates in the United States ($301 billion) is greater than the total GDP of most nations. The U.S. Administration continues to look for new ways to give the transatlantic relationship a new impetus and wishes to examine cooperative means and best practices that could enhance economic growth, job creation, and innovation, in particular in the most dynamic sectors of our economies.

Pursuant to the “U.S.-EU Declaration on Strengthening our Economic Partnership” agreed to by President Bush and his EU counterparts at the June 2004 US-EU Summit in Ireland, the United States welcomes and encourages the current lively and creative public debate on both sides of the Atlantic on how to enhance our already strong economic relationship. The Summit “Declaration on Strengthening our Economic Partnership” and White House fact sheet are available at http://www.whitehouse.gov/news/releases/2004/06/.

As part of its exploration of new ideas, U.S. agencies will in coming months convene a number of public dialogue sessions, as well as participate in other conferences and meetings, with the business, consumer, labor, environmental and academic communities, and other elements of civil society in order to outline proposals for possible adoption by governments. The U.S. government's objective is to stimulate concrete ideas from interested stakeholders for specific government actions that could enhance US-EU economic integration.

Topics which could be explored in this regard include (but are not limited to):

• Where should the U.S. and EU economic relationship be in 10 years and what steps should we take to meet these goals?

• Where are there opportunities for further and deeper cooperation?

• How can the U.S. and EU do more to advance competitiveness and innovation?

• What should be done to better mesh U.S. and EU regulatory approaches?

• How can we enhance transparency and public participation in economic policy formulation?

• What should be done to further liberalize transatlantic trade in services?

• How can the U.S. and EU cooperate more effectively in third markets, such as promoting transparency and protection of intellectual property rights?

• How can the U.S. and EU address remaining traditional market access barriers, such as tariff rates and customs procedures?

Mark Mowrey,
Deputy Assistant United States Trade Representative for Europe and the Mediterranean.

[FR Doc. 04-18716 Filed 8-16-04; 8:45 am]

BILLING CODE 3190-W4-P